DEPARTMENT OF HEALTH AND HUMAN SERVICES

Office of the Secretary

Agency Information Collection Activities; Proposed Collections; Comment Request

The Department of Health and Human Services, Office of the Secretary will periodically publish summaries of proposed information collections projects and solicit public comments in compliance with the requirements of Section 3506(c)(2)(A) of the Paperwork Reduction Act of 1995. To request more information on the project or to obtain a copy of the information collection plans and instruments, call the OS Reports Clearance Office at (202) 619-2118 or e-mail Geerie.Jones@HHS.gov.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Project 1. Voluntary Survey to Assess the Implementation of the Federal Grant Streamlining Program under Public Law 106-107—NEW—The Department of Health and Human Services, as the lead agency in the implementation of the Federal Financial Assistance Management Improvement Act of 1999, will conduct a study for gauging the overall performance of the Federal government in meeting the standards for the streamlined grants process. This survey will be used to improve the efficiency, quality, and timeliness of the grants awarding process, as well as to strengthen its partnership with the grantee community. Respondents: State, Local or Tribal Government, Business or other for-profit, non-profit Institutions—Reporting Burden Information—Number of Respondents: 13,000; Frequency of Response: once every two years; Average Burden per Response: 15 minutes; Total Burden 3,250 hours.

Send comments via e-mail to Geerie.Jones@HHS.gov, or mail to OS Reports Clearance Office, Room 503H, Hubert H. Humphrey Building, 200 Independence Avenue SW., Washington, DC, 20201. Comments should be received within 60 days of this notice.

Dated: March 21, 2002.
Kerry Weems,
Acting Deputy Assistant Secretary, Budget.

[FR Doc. 02-7556 Filed 3-28-02; 8:45 am]

BILLING CODE 4151-17-M